DEPARTMENT OF EDUCATION

Applications for New Awards; Mental Health Personnel Technical Assistance Center

AGENCY: Office of Elementary and Secondary Education, Department of Education.

ACTION: Notice.

SUMMARY: The Department of Education (Department) is issuing a notice inviting applications for fiscal year (FY) 2023 for the Mental Health Personnel Technical Assistance Center (MHP TA Center), Assistance Listing Number 84.184U. This notice relates to the approved information collection under OMB control number 1894-0006.

DATES:

Applications Available: May 3, 2023.

Deadline for Notice of Intent to Apply: June 2, 2023.

Deadline for Transmittal of Applications: July 3, 2023.

Deadline for Intergovernmental Review: August 31, 2023.

Pre-Application Webinar Information: The Department will hold a preapplication presentation via webinar for prospective applicants on May 23, 2023, at 1:30 p.m. Eastern time. To register, please visit the program website at: https://oese.ed.gov/offices/office-of-formula-grants/safe-supportive-schools/.

ADDRESSES: For the addresses for obtaining and submitting an application, please refer to our Common Instructions for Applicants to Department of Education Discretionary Grant Programs, published in the Federal Register on December 7, 2022 (87 FR 75045), and available at https://www.federalregister.gov/documents/2022/12/07/2022-26554/common-instructions-for-applicants-to-department-of-education-discretionary-grant-programs. Please note that these Common Instructions supersede the version published on December 27, 2021.

FOR FURTHER INFORMATION CONTACT: Carlette Kyser Pegram, U.S. Department of Education, 400 Maryland Avenue SW, Room 3E257, Washington, DC 20202. Telephone: 202-453-6732. Email: OESE.OSSS@ed.gov.

If you are deaf, hard of hearing, or have a speech disability and wish to access telecommunications relay services, please dial 7-1-1.

SUPPLEMENTARY INFORMATION:

Full Text of Announcement

I. Funding Opportunity Description

Purpose of Program: The purpose of the MHP TA Center is to provide technical assistance to current Department grantees awarded funds under the fiscal years 2022 and 2023 Mental Health Service Professional Demonstration (MHSP) and the School-Based Mental Health Services (SBMH) grant programs and to disseminate resources and information to support State educational agencies (SEAs), local educational agencies (LEAs), institutions of higher education (IHEs), and other stakeholders, more broadly, in the preparation of school-based mental health services providers.

Background: The Department awarded nearly 300 MHSP and SBMH grants with historic funding provided under the Bipartisan Safer Communities Act (BSCA) and the Fiscal Year 2022 Omnibus Appropriations to address the critical need in prekindergarten (PK)-12 schools for school-based mental health services providers, a need exacerbated by the COVID-19 pandemic. Findings from the Department's Institute of Education Sciences April 2022 School Pulse Panel reinforce the challenges schools face in addressing student mental health needs. Specifically, 70 percent of public schools reported that the percentage of students who have sought mental health services increased since the start of the COVID-19 pandemic, and 29 percent of public schools reported that the percentage of staff who have sought mental health services increased since the start of the COVID-19 pandemic (U.S. Department of Education, Institute of Education Sciences, National Center for Education Statistics, School Pulse Panel (April 12-25, 2022)).

To help address the need for additional school-based mental health services providers, the MHSP program provides competitive grants to support and demonstrate innovative partnerships among SEAs, LEAs, and consortia of LEAs and IHEs to train school-based mental health services providers for employment in schools and LEAs, with the goal of increasing the number and diversity of high-quality, trained providers available to address the shortages of school-based mental health services providers in high-need LEAs. The SBMH program provides competitive grants to SEAs, LEAs, and consortia of LEAs to increase the number of credentialed school-based mental health services providers providing mental health services to students in LEAs with demonstrated need. Collectively, both programs aim to significantly increase the ability of schools to address the mental health needs of students and staff and help ensure safer, healthier, more inclusive, and positive school environments.

The MHP TA Center will support MHSP and SBMH grantees in meeting the goals and objectives of their respective grants. The Center will also identify, develop, and disseminate resources to enhance the efforts of IHEs, SEAs, LEAs, and schools to address the social, emotional, and mental health needs of PK-12 students and staff.

Priority: This competition has one absolute priority. We are establishing this priority for the FY 2023 grant competition and any subsequent year in which we make awards from the list of unfunded applications from this competition, in accordance with section 437(d)(1) of the General Education Provisions Act (GEPA), 20 U.S.C. 1232(d)(1).

Absolute Priority: For FY 2023 and any subsequent year in which we make awards from the list of unfunded applications from this competition, this priority is an absolute priority. Under 34 CFR 75.105(c)(3), we consider only applications that meet this priority.

This priority is:

A project to—

(1) Provide technical assistance to fiscal years 2022 and 2023 MHSP and SBMH grantees (grantees) through a tiered approach that includes universal support to all grantees, targeted support on select topics for subsets of grantees, and intensive support for individual grantees, as directed by the Office of Elementary and Secondary Education;

(2) Support high-quality grantee data through—

(a) Developing a system for collecting, reviewing, and analyzing specific performance data (e.g., common annual performance measures across the MHSP and SBMH grant programs);

(b) Assisting MHSP and SBMH grantees in submitting valid and reliable data in the annual and final performance reports; and

(c) Conducting a review and analysis of the annual and final performance reports, aggregating the data, and preparing a report for the Department describing successes, challenges, exemplars, and noteworthy trends; and

(3) Disseminate best practices in credentialing, recruiting, training and developing, and retaining school-based mental health services providers, including best practices on establishing and sustaining partnerships with IHEs to create and provide innovative high-quality training and credentialing options and maintain a robust pipeline of school-based mental health services providers.

Requirements: We are establishing the following program requirements and application requirements for the FY 2023 grant competition and any subsequent year in which we make awards from the list of unfunded applications from this competition, in accordance with GEPA.

Program Requirements: The project must—

(a) Include at least one partnership with a Historically Black College and University (HBCU), Tribal College and University (TCU), or other Minority Serving Institution (MSI) in order to address a key focus of the MHSP and SBMH programs, specifically ensuring a pipeline of school-based mental health services providers from diverse backgrounds or from the communities that they serve;

(b) Develop and maintain a 508-compliant website to assist the MHP TA Center to (1) disseminate best practices in credentialing, recruiting, training and developing, and retaining school-based mental health services providers, including mental health service providers from diverse backgrounds or from the communities that they serve; and (2) disseminate free, online open educational resources (OER) that can be used to (i) meet ongoing training and professional development requirements for school-based mental health services providers and other school staff and (ii) provide training alternatives, such as micro-credentials, professional development certificates, and online courses, for new students pursuing a credential to provide mental health services in schools that States may choose to incorporate as part of their credentialing process, including OERs that address school climate (e.g., ensuring inclusive environments for all students; ensuring school and school-related activities where students are free from bullying and harassment; and promoting strong relationships among students, teachers, families, and schools);

(c) Provide technical assistance (such as webinars or virtual meetings) for preparing, collecting, and submitting valid and reliable data to be included in annual and final performance reports; annually review and analyze annual and final reports; and annually prepare a report for the Department aggregating the data from annual and final performance reports and describing successes, challenges, exemplars, and noteworthy trends;

(d) Disseminate information (e.g., instructional videos, toolkits, and briefs), best practices, and evidence-based practices to a variety of education stakeholders, including IHE and SEA and LEA personnel, via multiple mechanisms such as the MHP TA Center website, social media, and other channels, as appropriate, regarding how these entities can work together to increase the number and diversity of school-based mental health services providers and ensure continuity of mental health services as students progress through PK-12 schooling and postsecondary education;

(e) Annually provide forums (such as communities of practice) for grantees to share resources and experiences related to specific areas of MHSP and SBMH grant implementation. Specific areas should include creating culturally and linguistically inclusive and identity-safe environments for all students and other areas to be identified based on input from grantees, the Department, and other stakeholders, obtained through focus groups, for example; and

(f) Develop, identify, and disseminate information regarding evaluation of the implementation and impact of MHSP and SBMH grants, including providing webinars or other convenings focused specifically on conducting such evaluations and using ongoing data yielded from such evaluations to engage in continuous improvement of grant programs.

Application Requirements: In the application, an applicant must—

(a) Explain how the applicant's program design will create high-quality technical assistance for MHSP and SBMH grantees, including by providing a logic model that articulates a tiered approach to providing support to MHSP and SBMH grantees, a cycle of continuous improvement, and a process for program adjustments based on ongoing and emergent grantee needs;

(b) Demonstrate expert knowledge in credentialing, recruiting, training, developing, and retaining school-based mental health services providers;

(c) Demonstrate expert knowledge in—

(1) The statutory and regulatory requirements related to the MHSP and SBMH grant programs;

(2) Best practices in supporting school-based mental health services providers along the continuum from credentialing to retention in high-need schools; and

(3) Evidence-based approaches to supporting student and staff social, emotional, and mental health and well-being;

(d) Describe their experience in providing training, information, and support to IHEs, SEAs, LEAs, schools, and other organizations on evidence-based strategies to support pre- and in-service training that enhance the skills and knowledge of school-based mental health services providers and contribute to creating and maintaining supportive, positive, identity-safe, and inclusive school climates;

(e) Describe their experience providing training and resources to IHEs, LEAs, schools, and school-based mental health services providers regarding evidence-based practices, to ensure access to services for student groups not limited to but including students with disabilities, students experiencing homelessness, LGBTQ+ students, and English learners; and

(f) Describe their expertise in approaches to supporting valid and reliable data, conducting data quality reviews, collecting and analyzing data, and evaluating the effectiveness of programs intended to support student social, emotional, and mental health and well-being.

Definitions: For FY 2023 and any subsequent year in which we make awards from the list of unfunded applications from this competition, the following definitions apply. The definitions of “demonstrates a rationale,” “evidence-based,” “experimental study,” “logic model” “moderate evidence,” “project component,” “promising evidence,” “quasi-experimental design study,” “relevant outcome,” “strong evidence,” and “What Works Clearinghouse Handbooks” are from 34 CFR 77.1(c). The definitions of “local educational agency” and “State educational agency” are from section 8101 of the Elementary and Secondary Education Act of 1965, as amended (ESEA). The definition of “school-based mental health services provider” is from section 4102(6) of the ESEA.

Demonstrates a rationale means a key project component included in the project's logic model is informed by research or evaluation findings that suggest the project component is likely to improve relevant outcomes.

Evidence-based means the proposed project component is supported by one or more of strong evidence, moderate evidence, promising evidence, or evidence that demonstrates a rationale.

Experimental study means a study that is designed to compare outcomes between two groups of individuals (such as students) that are otherwise equivalent except for their assignment to either a treatment group receiving a project component or a control group that does not. Randomized controlled trials, regression discontinuity design studies, and single-case design studies are the specific types of experimental studies that, depending on their design and implementation (e.g., sample attrition in randomized controlled trials and regression discontinuity design studies), can meet What Works Clearinghouse (WWC) standards without reservations as described in the WWC Handbooks:

(i) A randomized controlled trial employs random assignment of, for example, students, teachers, classrooms, or schools to receive the project component being evaluated (the treatment group) or not to receive the project component (the control group).

(ii) A regression discontinuity design study assigns the project component being evaluated using a measured variable (e.g., assigning students reading below a cutoff score to tutoring or developmental education classes) and controls for that variable in the analysis of outcomes.

(iii) A single-case design study uses observations of a single case (e.g., a student eligible for a behavioral intervention) over time in the absence and presence of a controlled treatment manipulation to determine whether the outcome is systematically related to the treatment.

Local educational agency (LEA) means:

(a) In General. A public board of education or other public authority legally constituted within a State for either administrative control or direction of, or to perform a service function for, public elementary schools or secondary schools in a city, county, township, school district, or other political subdivision of a State, or of or for a combination of school districts or counties that is recognized in a State as an administrative agency for its public elementary schools or secondary schools.

(b) Administrative Control and Direction. The term includes any other public institution or agency having administrative control and direction of a public elementary school or secondary school.

(c) Bureau of Indian Education Schools. The term includes an elementary school or secondary school funded by the Bureau of Indian Education but only to the extent that including the school makes the school eligible for programs for which specific eligibility is not provided to the school in another provision of law and the school does not have a student population that is smaller than the student population of the LEA receiving assistance under the ESEA with the smallest student population, except that the school shall not be subject to the jurisdiction of any SEA (as defined in this notice) other than the Bureau of Indian Education.

(d) Educational Service Agencies. The term includes educational service agencies and consortia of those agencies.

(e) State Educational Agency. The term includes the SEA in a State in which the SEA is the sole educational agency for all public schools.

Logic model (also referred to as a theory of action) means a framework that identifies key project components of the proposed project (i.e., the active “ingredients” that are hypothesized to be critical to achieving the relevant outcomes) and describes the theoretical and operational relationships among the key project components and relevant outcomes.

Moderate evidence means that there is evidence of effectiveness of a key project component in improving a relevant outcome for a sample that overlaps with the populations or settings proposed to receive that component, based on a relevant finding from one of the following:

(i) A practice guide prepared by the WWC using version 2.1, 3.0, 4.0, or 4.1 of the WWC Handbooks reporting a “strong evidence base” or “moderate evidence base” for the corresponding practice guide recommendation;

(ii) An intervention report prepared by the WWC using version 2.1, 3.0, 4.0, or 4.1 of the WWC Handbooks reporting a “positive effect” or “potentially positive effect” on a relevant outcome based on a “medium to large” extent of evidence, with no reporting of a “negative effect” or “potentially negative effect” on a relevant outcome; or

(iii) A single experimental study or quasi-experimental design study reviewed and reported by the WWC using version 2.1, 3.0, 4.0, or 4.1 of the WWC Handbooks, or otherwise assessed by the Department using version 4.1 of the WWC Handbooks, as appropriate, and that—

(A) Meets WWC standards with or without reservations;

(B) Includes at least one statistically significant and positive (i.e., favorable) effect on a relevant outcome;

(C) Includes no overriding statistically significant and negative effects on relevant outcomes reported in the study or in a corresponding WWC intervention report prepared under version 2.1, 3.0, 4.0, or 4.1 of the WWC Handbooks; and

(D) Is based on a sample from more than one site (e.g., State, county, city, school district, or postsecondary campus) and includes at least 350 students or other individuals across sites. Multiple studies of the same project component that each meet requirements in paragraphs (iii)(A), (B), and (C) of this definition may together satisfy the requirement in this paragraph (iii)(D).

Project component means an activity, strategy, intervention, process, product, practice, or policy included in a project. Evidence may pertain to an individual project component or to a combination of project components (e.g., training teachers on instructional practices for English learners and follow-on coaching for these teachers).

Promising evidence means that there is evidence of the effectiveness of a key project component in improving a relevant outcome, based on a relevant finding from one of the following:

(i) A practice guide prepared by WWC reporting a “strong evidence base” or “moderate evidence base” for the corresponding practice guide recommendation;

(ii) An intervention report prepared by the WWC reporting a “positive effect” or “potentially positive effect” on a relevant outcome with no reporting of a “negative effect” or “potentially negative effect” on a relevant outcome; or

(iii) A single study assessed by the Department, as appropriate, that—

(A) Is an experimental study, a quasi-experimental design study, or a well-designed and well-implemented correlational study with statistical controls for selection bias (e.g., a study using regression methods to account for differences between a treatment group and a comparison group); and

(B) Includes at least one statistically significant and positive (i.e., favorable) effect on a relevant outcome.

Quasi-experimental design study means a study using a design that attempts to approximate an experimental study by identifying a comparison group that is similar to the treatment group in important respects. This type of study, depending on design and implementation (e.g., establishment of baseline equivalence of the groups being compared), can meet WWC standards with reservations, but cannot meet WWC standards without reservations, as described in the WWC Handbooks.

Relevant outcome means the student outcome(s) or other outcome(s) the key project component is designed to improve, consistent with the specific goals of the program.

School-based mental health services provider means a State-licensed or State-certified school counselor, school psychologist, school social worker, or other State-licensed or certified mental health professional qualified under State law to provide mental health services to children and adolescents.

State educational agency means the agency primarily responsible for the State supervision of public elementary schools and secondary schools.

Strong evidence means that there is evidence of the effectiveness of a key project component in improving a relevant outcome for a sample that overlaps with the populations and settings proposed to receive that component, based on a relevant finding from one of the following:

(i) A practice guide prepared by the WWC using version 2.1, 3.0, 4.0, or 4.1 of the WWC Handbooks reporting a “strong evidence base” for the corresponding practice guide recommendation;

(ii) An intervention report prepared by the WWC using version 2.1, 3.0, 4.0, or 4.1 of the WWC Handbooks reporting a “positive effect” on a relevant outcome based on a “medium to large” extent of evidence, with no reporting of a “negative effect” or “potentially negative effect” on a relevant outcome; or

(iii) A single experimental study reviewed and reported by the WWC using version 2.1, 3.0, 4.0, or 4.1 of the WWC Handbooks, or otherwise assessed by the Department using version 4.1 of the WWC Handbooks, as appropriate, and that—

(A) Meets WWC standards without reservations;

(B) Includes at least one statistically significant and positive (i.e., favorable) effect on a relevant outcome;

(C) Includes no overriding statistically significant and negative effects on relevant outcomes reported in the study or in a corresponding WWC intervention report prepared under version 2.1, 3.0, 4.0, or 4.1 of the WWC Handbooks; and

(D) Is based on a sample from more than one site (e.g., State, county, city, school district, or postsecondary campus) and includes at least 350 students or other individuals across sites. Multiple studies of the same project component that each meet requirements in paragraphs (iii)(A), (B), and (C) of this definition may together satisfy the requirement in this paragraph (iii)(D).

What Works Clearinghouse (WWC) Handbooks (WWC Handbooks) means the standards and procedures set forth in the WWC Standards Handbook, Versions 4.0 or 4.1, and WWC Procedures Handbook, Versions 4.0 or 4.1, or in the WWC Procedures and Standards Handbook, Version 3.0 or Version 2.1 (all incorporated by reference, see § 77.2). Study findings eligible for review under WWC standards can meet WWC standards without reservations, meet WWC standards with reservations, or not meet WWC standards. WWC practice guides and intervention reports include findings from systematic reviews of evidence as described in the WWC Handbooks documentation.

Waiver of Proposed Rulemaking: Under the Administrative Procedure Act (5 U.S.C. 553), the Department generally offers interested parties the opportunity to comment on proposed priorities, requirements, definitions, and selection criteria. Section 437(d)(1) of GEPA, however, allows the Secretary to exempt from rulemaking requirements regulations governing the first grant competition under a new or substantially revised program authority. This is the first grant competition for this program under section 4631(a)(1)(B) of the ESEA, and therefore qualifies for this exemption. In order to ensure timely grant awards, the Secretary has decided to forgo public comment on the priorities and requirements under section 437(d)(1) of GEPA. These priorities and requirements will apply to the FY 2023 grant competition and any subsequent year in which we make awards from the list of unfunded applications from this competition.

Program Authority: Section 4631(a)(1)(B) of the ESEA (20 U.S.C. 7281).

Note: Projects will be awarded and must be operated in a manner consistent with the nondiscrimination requirements contained in Federal civil rights laws.

Applicable Regulations: (a) The Education Department General Administrative Regulations in 34 CFR parts 75, 77, 79, 81, 82, 84, 86, 97, 98, and 99. (b) The Office of Management and Budget Guidelines to Agencies on Governmentwide Debarment and Suspension (Nonprocurement) in 2 CFR part 180, as adopted and amended as regulations of the Department in 2 CFR part 3485. (c) The Uniform Administrative Requirements, Cost Principles, and Audit Requirements for Federal Awards in 2 CFR part 200, as adopted and amended as regulations of the Department in 2 CFR part 3474.

Note: The regulations in 34 CFR part 86 apply to institutions of higher education only.

II. Award Information

Type of Award: Discretionary grant/cooperative agreement.

Estimated Available Funds: $2,600,000 annually for 48 months, provided that the grantee and the Department may agree to extend an additional 12 months for up to $1,300,000.

Maximum Award: We will not make an award exceeding $2,600,000 for a single budget period of 12 months.

Estimated Number of Awards: 1.

Note: The Department is not bound by any estimates in this notice.

Project Period: Up to 48 months, provided that the grantee and the Department may agree to extend an additional 12 months for a total of 60 months.

III. Eligibility Information

1. Eligible Applicants: Research organizations, institutions, agencies, institutions of higher education, private nonprofit organizations, and for-profit organizations, or partnerships among such entities, in each case with the demonstrated ability or capacity to carry out the activities described.

2. a. Cost Sharing or Matching: This program does not require cost sharing or matching.

b. Indirect Cost Rate Information: This program uses an unrestricted indirect cost rate. For more information regarding indirect costs, or to obtain a negotiated indirect cost rate, please see www2.ed.gov/about/offices/list/ocfo/intro.html.

c. Administrative Cost Limitation: This program does not include any program-specific limitation on administrative expenses. All administrative expenses must be reasonable and necessary and conform to Cost Principles described in 2 CFR part 200 subpart E of the Uniform Guidance.

3. Subgrantees: A grantee under this competition may not award subgrants to entities to directly carry out project activities described in its application.

IV. Application and Submission Information

1. Application Submission Instructions: Applicants are required to follow the Common Instructions for Applicants to Department of Education Discretionary Grant Programs, published in the Federal Register on December 7, 2022 (87 FR 75045), and available at https://www.federalregister.gov/documents/2022/12/07/2022-26554/common-instructions-for-applicants-to-department-of-education-discretionary-grant-programs, which contain requirements and information on how to submit an application. Please note that these Common Instructions supersede the version published on December 27, 2021.

2. Submission of Proprietary Information: Given the types of projects that may be proposed in applications for the MHP TA Center program, your application may include business information that you consider proprietary. In 34 CFR 5.11, we define “business information” and describe the process we use in determining whether any of that information is proprietary and, thus, protected from disclosure under Exemption 4 of the Freedom of Information Act (5 U.S.C. 552,as amended).

Because we plan to make successful applications available to the public, you may wish to request confidentiality of business information.

Consistent with Executive Order 12600, please designate in your application any information that you believe is exempt from disclosure under Exemption 4. In the appropriate appendix section of your application, under “Other Attachments Form,” please list the page number or numbers on which we can find this information. For additional information please see 34 CFR 5.11(c).

3. Intergovernmental Review: This program is subject to Executive Order 12372 and the regulations in 34 CFR part 79. Information about Intergovernmental Review of Federal Programs under Executive Order 12372 is in the application package for this competition.

4. Funding Restrictions: We reference regulations outlining funding restrictions in the Applicable Regulations section of this notice.

5. Recommended Page Limit: The application narrative is where you, the applicant, address the selection criteria that reviewers use to evaluate your application. We recommend that you (1) limit the application narrative to no more than 30 pages and (2) use the following standards:

• A “page” is 8.5” x 11”, on one side only, with 1” margins at the top, bottom, and both sides.

• Double-space (no more than three lines per vertical inch) all text in the application narrative.

• Use a font that is either 12 point or larger or no smaller than 10 pitch (characters per inch).

• Use one of the following fonts: Times New Roman, Courier, Courier New, or Arial.

The recommended page limit does not apply to the cover sheet; the budget section, including the narrative budget justification; the assurances and certifications; or the one-page abstract, the resumes, the bibliography, or the letters of support. However, the recommended page limit does apply to all of the application narrative.

6. Notice of Intent to Apply: The Department will be able to review grant applications more efficiently if we know the approximate number of applicants that intend to apply. Therefore, we strongly encourage each potential applicant to notify us of their intent to submit an application. To do so, please email the program contact person listed under FOR FURTHER INFORMATION CONTACT with the subject line “Intent to Apply,” and include the applicant's name and a contact person's name and email address. Applicants that do not submit a notice of intent to apply may still apply for funding; applicants that do submit a notice of intent to apply are not bound to apply or bound by the information provided.

V. Application Review Information

1. Selection Criteria: The selection criteria for this competition are from 34 CFR 75.210. The maximum score for all of the selection criteria is 100 points. The maximum score for each criterion is included in parentheses following the title of the specific selection criterion. Each criterion also includes the factors that reviewers will consider in determining the extent to which an applicant meets the criterion.

The selection criteria are as follows:

(a) Quality of the project design (up to 25 points).

The Secretary considers the quality of the design of the proposed project. In determining the quality of the design of the proposed project, the Secretary considers the following factors:

(1) The extent to which the design of the proposed project is appropriate to, and will successfully address, the needs of the target population or other identified needs. (up to 8 points)

(2) The extent to which the proposed project demonstrates a rationale (as defined in this notice). (up to 8 points)

(3) The extent to which performance feedback and continuous improvement are integral to the design of the proposed project. (up to 9 points)

(b) Quality of project services (up to 30 points).

The Secretary considers the quality of the project services. In determining the quality of the project services of the proposed project, the Secretary considers the following factors:

(1) The extent to which the services to be provided by the proposed project are appropriate to the needs of the intended recipients or beneficiaries of those services. (up to 15 points)

(2) The quality and sufficiency of strategies for ensuring equal access and treatment for eligible project participants who are members of groups that have traditionally been underrepresented based on race, color, national origin, gender, age, or disability. (up to 5 points)

(3) The extent to which the training or professional development services to be provided by the proposed project are of sufficient quality, intensity, and duration to lead to improvements in practice among the recipients of those services. (up to 10 points)

(c) Quality of project personnel (up to 20 points).

The Secretary considers the quality of the personnel who will carry out the proposed project.

(1) In determining the quality of project personnel, the Secretary considers the extent to which the applicant encourages applications for employment from persons who are members of groups that have been traditionally underrepresented based on race, color, national origin, gender, age, or disability. (up to 10 points)

(2) In addition, the Secretary considers the qualifications, including relevant training and experience, of key project personnel. (up to 10 points)

(d) Quality of the management plan (up to 20 points).

The Secretary considers the quality of the management plan for the proposed project. In determining the quality of the management plan for the proposed project, the Secretary considers the following factors:

(1) The adequacy of the management plan to achieve the objectives of the proposed project on time and within budget, including clearly defined responsibilities, timelines, and milestones for accomplishing project tasks. (up to 5 points)

(2) The adequacy of procedures for ensuring feedback and continuous improvement in the operation of the proposed project. (up to 5 points)

(3) The adequacy of mechanisms for ensuring high-quality products and services from the proposed project. (up to 5 points)

(4) The extent to which the time commitments of the project director and principal investigator and other key project personnel are appropriate and adequate to meet the objectives of the proposed project. (up to 5 points)

(e) Quality of the project evaluation (up to 5 points).

The Secretary considers the quality of the evaluation to be conducted of the proposed project. In determining the quality of the evaluation, the Secretary considers the following factors:

(1) The extent to which the methods of evaluation will provide valid and reliable performance data on relevant outcomes. (up to 2 points)

(2) The extent to which the methods of evaluation include the use of objective performance measures that are clearly related to the intended outcomes of the project and will produce quantitative and qualitative data to the extent possible. (up to 3 points)

2. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary requires various assurances, including those applicable to Federal civil rights laws that prohibit discrimination in programs or activities receiving Federal financial assistance from the Department (34 CFR 100.4, 104.5, 106.4, 108.8, and 110.23).

3. Risk Assessment and Specific Conditions: Consistent with 2 CFR 200.206, before awarding grants under this competition the Department conducts a review of the risks posed by applicants. Under 2 CFR 200.208, the Secretary may impose specific conditions and, under 2 CFR 3474.10, in appropriate circumstances, high-risk conditions on a grant if the applicant or grantee is not financially stable; has a history of unsatisfactory performance; has a financial or other management system that does not meet the standards in 2 CFR part 200, subpart D; has not fulfilled the conditions of a prior grant; or is otherwise not responsible.

4. Integrity and Performance System: If you are selected under this competition to receive an award that over the course of the project period may exceed the simplified acquisition threshold (currently $250,000), under 2 CFR 200.206(a)(2) we must make a judgment about your integrity, business ethics, and record of performance under Federal awards—that is, the risk posed by you as an applicant—before we make an award. In doing so, we must consider any information about you that is in the integrity and performance system (currently referred to as the Federal Awardee Performance and Integrity Information System (FAPIIS)), accessible through the System for Award Management. You may review and comment on any information about yourself that a Federal agency previously entered and that is currently in FAPIIS.

Please note that, if the total value of your currently active grants, cooperative agreements, and procurement contracts from the Federal Government exceeds $10,000,000, the reporting requirements in 2 CFR part 200, appendix XII, require you to report certain integrity information to FAPIIS semiannually. Please review the requirements in 2 CFR part 200, appendix XII, if this grant plus all the other Federal funds you receive exceed $10,000,000.

5. In General. In accordance with the Office of Management and Budget's guidance located at 2 CFR part 200, all applicable Federal laws, and relevant Executive guidance, the Department will review and consider applications for funding pursuant to this notice inviting applications in accordance with—

(a) Selecting recipients most likely to be successful in delivering results based on the program objectives through an objective process of evaluating Federal award applications (2 CFR 200.205);

(b) Prohibiting the purchase of certain telecommunication and video surveillance services or equipment in alignment with section 889 of the National Defense Authorization Act of 2019 (Pub. L. 115-232) (2 CFR 200.216);

(c) Providing a preference, to the extent permitted by law, to maximize use of goods, products, and materials produced in the United States (2 CFR 200.322); and

(d) Terminating agreements in whole or in part to the greatest extent authorized by law if an award no longer effectuates the program goals or agency priorities (2 CFR 200.340).

VI. Award Administration Information

1. Award Notices: If your application is successful, we notify your U.S. Representative and U.S. Senators and send you a Grant Award Notification (GAN); or we may send you an email containing a link to access an electronic version of your GAN. We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Open Licensing Requirements: Unless an exception applies, if you are awarded a grant under this competition, you will be required to openly license to the public grant deliverables created in whole, or in part, with Department grant funds. When the deliverable consists of modifications to pre-existing works, the license extends only to those modifications that can be separately identified and only to the extent that open licensing is permitted under the terms of any licenses or other legal restrictions on the use of pre-existing works. Additionally, a grantee or subgrantee that is awarded competitive grant funds must have a plan to disseminate these public grant deliverables. This dissemination plan can be developed and submitted after your application has been reviewed and selected for funding. For additional information on the open licensing requirements please refer to 2 CFR 3474.20.

4. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multiyear award, you must submit an annual performance report that provides the most current performance and financial expenditure information as directed by the Secretary under 34 CFR 75.118. The Secretary may also require more frequent performance reports under 34 CFR 75.720(c). For specific requirements on reporting, please go to www.ed.gov/fund/grant/apply/appforms/appforms.html.

(c) Under 34 CFR 75.250(b), the Secretary may provide a grantee with additional funding for data collection analysis and reporting. In this case the Secretary establishes a data collection period.

5. Performance Measures: For the purposes of Department reporting under 34 CFR 75.110, we have established three performance measures for the MHP TA Center program: (1) The percentage of grantees reporting valid and reliable data on their progress as evidenced in annual performance reports; (2) The percentage of MHSP and SBMH grantees who report improvements and progress toward grant goals and objectives as evidenced in annual performance reports; and (3) The extent to which MHSP and SBMH grantees are satisfied with the quality, usefulness, and relevance of technical assistance provided as evidenced by surveys.

6. Continuation Awards: In making a continuation award under 34 CFR 75.253, the Secretary considers, among other things: whether a grantee has made substantial progress in achieving the goals and objectives of the project; whether the grantee has expended funds in a manner that is consistent with its approved application and budget; and, if the Secretary has established performance measurement requirements, whether the grantee has made substantial progress in achieving the performance targets in the grantee's approved application.

In making a continuation award, the Secretary also considers whether the grantee is operating in compliance with the assurances in its approved application, including those applicable to Federal civil rights laws that prohibit discrimination in programs or activities receiving Federal financial assistance from the Department (34 CFR 100.4, 104.5, 106.4, 108.8, and 110.23).

VII. Other Information

Accessible Format: On request to the program contact person listed under FOR FURTHER INFORMATION CONTACT, individuals with disabilities can obtain this document and a copy of the application package in an accessible format. The Department will provide the requestor with an accessible format that may include Rich Text Format (RTF) or text format (txt), a thumb drive, an MP3 file, braille, large print, audiotape, or compact disc, or other accessible format.

Electronic Access to This Document: The official version of this document is the document published in the Federal Register. You may access the official edition of the Federal Register and the Code of Federal Regulations at www.govinfo.gov. At this site you can view this document, as well as all other documents of this Department published in the Federal Register, in text or Portable Document Format (PDF). To use PDF, you must have Adobe Acrobat Reader, which is available free at the site.

You may also access documents of the Department published in the Federal Register by using the article search feature at www.federalregister.gov. Specifically, through the advanced search feature at this site, you can limit your search to documents published by the Department.

James F. Lane,
Principal Deputy Assistant Secretary, Delegated the Authority to Perform the Functions and Duties of the Assistant Secretary, Office of Elementary and Secondary Education.

[FR Doc. 2023-09412 Filed 5-2-23; 8:45 am]

BILLING CODE 4000-01-P